DEPARTMENT OF LABOR

Employment and Training Administration

[TA-W-62,608]

Precision Magnetics Division of Arnold Magnetics Technologies; Wayne, NJ; Notice of Affirmative Determination Regarding Application for Reconsideration

By application dated February 20, 2008, a worker requested administrative reconsideration of the negative determination regarding workers' eligibility to apply for Trade Adjustment Assistance (TAA) and Alternative Trade Adjustment Assistance (ATAA) applicable to workers and former workers of the subject firm. The determination was issued on February 4, 2008. The Notice of determination was published in the Federal Register on February 22, 2008 (73 FR 9836).

The determination was based on the Department's findings that, during the relevant period, the subject firm did not shift production of magnetic components and assemblies to a foreign country and did not import magnetic components and assemblies. The determination also stated that the workers' separations are attributable to a domestic shift of production.

The request for reconsideration alleges that the subject workers do not produce magnetic components and assemblies but produce magnets, magnet production shifted to China, the subject firm is likely to import magnets following the shift abroad, and the subject firm's customers have increased their magnet imports.

The Department has carefully reviewed the request for reconsideration and has determined that the Department will conduct further investigation.

Conclusion

After careful review of the application, I conclude that the claim is of sufficient weight to justify reconsideration of the U.S. Department of Labor's prior decision. The application is, therefore, granted.

Signed at Washington, DC, this 3rd day of March 2008.
Elliott S. Kushner,
Certifying Officer, Division of Trade Adjustment Assistance.

[FR Doc. E8-4667 Filed 3-10-08; 8:45 am]

BILLING CODE 4510-FN-P